DEPARTMENT OF COMMERCE

National Institute of Standards and Technology

National Conference on Weights and Measures 95th Interim Meeting

AGENCY: National Institute of Standards and Technology, Commerce.

ACTION: Notice.

SUMMARY: The National Conference on Weights and Measures (NCWM) 95th Interim Meeting will be held January 24 to 27, 2010. Publication of this notice on the NCWM's behalf is undertaken as a public service; NIST does not endorse, approve, or recommend any of the proposals contained in this notice or in the publications of the NCWM mentioned below. The meetings are open to the public but a paid registration is required. Please see registration information in the SUPPLEMENTARY INFORMATION section below.

DATES: The meeting will be held on January 24 to 27, 2010.

ADDRESSES: The meeting will be held at the Hilton Nashville Downtown, 121 Fourth Avenue South, Nashville, Tennessee 37201.

FOR FURTHER INFORMATION CONTACT: Carol Hockert, Chief, NIST, Weights and Measures Division, 100 Bureau Drive, Stop 2600, Gaithersburg, MD 20899-2600 or by telephone (301) 975-5507 or by e-mail at Carol.Hockert@nist.gov.

SUPPLEMENTARY INFORMATION: The NCWM is an organization of weights and measures officials of the states, counties, and cities of the United States, federal agencies, and private sector representatives. These meetings bring together government officials and representatives of business, industry, trade associations, and consumer organizations on subjects related to the field of weights and measures technology, administration and enforcement. NIST participates to promote uniformity among the states in laws, regulations, methods, and testing equipment that comprise the regulatory control of commercial weighing and measuring devices and other trade and commerce issues. To register to attend the meeting, please see NCWM Publication 15 “Interim Meeting Agenda” at http://www.ncwm.net or http://www.nist.gov/owm that contains meeting agendas, registration forms and hotel reservation information.

The following are brief descriptions of some of the significant agenda items that will be considered along with other issues at the NCWM Interim Meeting. Comments will be taken on these and other issues during several public comment sessions. At this stage, the items are proposals. This meeting also includes work sessions in which the Committees may also accept comments and where they will finalize recommendations for NCWM consideration and possible adoption at its Annual Meeting to be held at the Crown Plaza St. Paul Riverfront in St. Paul, Minnesota on July 11 to 15, 2010. The Committees may withdraw or carry over items that need additional development.

The Specifications and Tolerances Committee (S&T Committee) will consider proposed amendments to NIST Handbook 44, “Specifications, Tolerances, and other Technical Requirements for Weighing and Measuring Devices (NIST Handbook 44).” Those items address weighing and measuring devices used in commercial applications, that is, devices that are used to buy from or sell to the public or used for determining the quantity of product sold among businesses.

Issues on the agenda of the NCWM Laws and Regulations Committee (L&R Committee) relate to proposals to amend NIST Handbook 130, “Uniform Laws and Regulations in the area of legal metrology and engine fuel quality” and NIST Handbook 133 “Checking the Net Contents of Packaged Goods.”

NCWM Specifications and Tolerances Committee

The following items are proposals to amend NIST Handbook 44:

General Code

Item 310-1. G-S.8. Provision for Sealing Electronic Adjustable Components, G-S.8.1. Access to Calibration and Configuration Adjustments, and G-S.8.2.—The S&T Committee will consider a proposal to add new requirements to G-S.8. intended to improve the security of access to the calibration and other configuration features on weighing or measuring devices. The purpose of the proposal is to ensure that prohibited features cannot be activated and that the accuracy of the device cannot be altered after a weights and measures official applies security seals or another approved means of providing security.

Item 310-3. Software, G-S.1. Identification—The S&T Committee will consider a proposal that is intended to amend the identification requirements for all electronic devices manufactured after a specified date by requiring metrological software version or revision information. Additionally, the proposal will list other optional methods for providing the required information.

Liquid-Measuring Devices Code

Item 360-1. Tentative Code for Hydrogen Gas-Measuring Devices—The S&T Committee will consider a proposal to establish legal metrology requirements for gaseous hydrogen refueling dispensers. These devices are in operation in 24 states and these requirements will provide state weights and measures programs and manufacturers with specifications, tolerances and other technical requirements for these measuring devices.

Item 330-1. Automatic Temperature Compensation for Liquid-Measuring Devices—The S&T Committee will consider a proposal to add provisions to Handbook 44 to allow retail motor-fuel dispensers to be equipped with the automatic means to deliver engine fuels with the volume compensated to a reference temperature.

Item 331-2. For Vehicle Mounted Measuring Devices, UR.2.5.2.1. Automatic Temperature Compensation for Refined Petroleum Products—The S&T Committee will consider a proposal to add user requirements to NIST Handbook 44 related to measuring devices equipped with automatic temperature compensators. If adopted, users would be required to operate the compensators on a year round basis and all measuring devices used at a single business location would be required to be equipped with compensators to ensure all of the fuels sold from that location are dispensed on the same basis.

NCWM Laws and Regulations Committee

The following items are proposals to amend NIST Handbook 130 or NIST Handbook 133:

NIST Handbook 133

Item 260-1. Guidance on Allowing for Moisture Loss and Other Revisions—The L&R Committee will consider proposals to revise and update the 4th Edition of this handbook that was last revised in 2005. Some proposed changes will clarify guidance on moisture allowances and inspection procedures and others will correct errors in the current edition.

Method of Sale of Commodities Regulation

Item 270-4. Method of Sale and Engine Fuel Quality Requirements for Hydrogen—The L&R Committee will consider a proposal to adopt a uniform method of sale and preliminary engine fuel quality standards for hydrogen used to refuel highway vehicles.

Item 270-5. Seed Count for Agricultural Seeds—The L&R Committee will consider a proposed method of sale and related test procedures for the inspection of packaged agricultural seed (specifically corn seed, soybean seed, field bean seed, and wheat seed) by “count.” (This item also includes proposed changes to NIST Handbook 133.)

Item 270-6. Polyethylene Products, Method of Sale Regulation Section 2.13.4. “Declaration of Weight.”—The L&R Committee will consider a proposal to revise the density values used to calculate the net weights on some packages of polyethylene products to recognize that heavier density plastics are now being used in some sheeting and bags. (See also Item 270-7 Handbook 133, Chapter 4.7. Polyethylene Sheeting—Test Procedure—Footnote to Step 3.)

Item 270-9. Packaged Printer Ink and Toner Cartridges—The L&R Committee will consider a proposed method of sale that would clarify the labeling requirements for packaged inkjet and toner cartridges to ensure that consumers are informed about the net quantity of contents of these products so that value comparisons can be made.

Item 270-11. Measurement of the Volume of Bagged Mulch—The L&R Committee will consider a proposal to revise the procedures used to verify the net quantity of contents of packaged mulch. The revisions include a proposal to require open dating so that allowances for moisture loss and decomposition can be made.

Dated: December 17, 2009.
Patrick Gallagher,
Director.

[FR Doc. E9-30421 Filed 12-21-09; 8:45 am]

BILLING CODE 3510-13-P